DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, education and extension, science and technology programs, and other matters as described below:

DATES: The announced meeting is scheduled during two days: Thursday, April 4, 2002, 9 a.m. to 5 p.m.; Friday, April 5, 2002 9 a.m. to 12:30 p.m.

ADDRESSES: National Oceanic and Atmospheric Administration, Silver Spring Metro Center III, 1315 East-West Highway, Room 4527, Silver Spring, Maryland 20910.

FOR FURTHER INFORMATION CONTACT: Dr. Ronald C. Baird, Director, National Sea Grant College Program, National Oceanic and Atmospheric Administration, 1315 East-West Highway, Room 11716, Silver Spring, Maryland 20910, (301) 713-2448.

SUPPLEMENTARY INFORMATION: The Panel, which consists of a balanced representation from academia, industry, state government and citizens groups, was established in 1976 by Section 209 of the Sea Grant Improvement Act (Public Law 94-461, 33 U.S.C. 1128). The Panel advises the Secretary of Commerce and the Director of the National Sea Grant College Program with respect to operations under the Act, and such other matters as the Secretary refers to them for review and advice. The agenda for the meeting is as follows:

Thursday, April 4, 2002

9:00 a.m.—Welcoming and Opening Formalities, Change of Panel Chairs, Election of Sea Grant Review Panel Officers, Approval of Last Meeting Minutes and Agenda, Introductory Remarks.

9:20 a.m.—Executive Committee Report.

9:45 a.m.—NSGO Director's Update.

10:15 a.m.—Sea Grant Association Report.

10:45 a.m.—Break.

11:00 a.m.—Allocation Committee Report.

12:00 noon—Working Lunch (Wisconsin Sea Grant Information Management System Demonstration).

1:45 p.m.—Allocation Committee Report (continued).

2:45 p.m.—Duce Committee Report Consideration.

3:45 p.m.—Break.

4:00 p.m.—Program Evaluation Implementation Report.

4:15 p.m.—Best Management Practices.

4:30 p.m.—Coastal States Organization Presentation.

Friday, April 5, 2002

9:00 a.m.—NOAA Update.

9:30 a.m.—Congressional Update.

10:30 a.m.—Break.

10:45 a.m.—NSGO Update, Sea Grant Fisheries Extension, Communications Update, Education Update, NOAA MSI/Environmental Entrepreneurship Program, Aquatic Nuisance Species, Maine and New Hampshire Sea Grant College, Status.

12:00 noon—Wrap-up.

12:30 p.m.—Adjourn.

This meeting will be open to the public.

Louisa Koch,
Deputy Assistant Administrator, Office of Oceanic and Atmospheric Research.

[FR Doc. 02-7058 Filed 3-22-02; 8:45 am]

BILLING CODE 3510-KA-M